DEPARTMENT OF TRANSPORTATION

Federal Railroad Administration

Petition for Waiver of Compliance

In accordance with part 211 of title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Middletown & Hummelstown Railroad

[Waiver Petition Docket Number FRA-2010-0105]

The Middletown & Hummelstown Railroad (MIDH) has petitioned FRA for a waiver of compliance with the requirements of 49 CFR 215.203(a)(1) “Restricted Cars” (more than 50 years old) for 2 cars, RPCX 1987 and CNJ91537. Both of these cars are cabooses built in 1956, and 1942, respectively. MIDH is also requesting a waiver of compliance with 49 CFR 223.13, “Glazing requirements for existing cabooses” because of the high costs of FRA Type I and Type II Glazing, as opposed to the very low incidences of vandalism. MIDH operates its own rail line between Middletown and Hummelstown, Pennsylvania, a distance of approximately 7 miles. The maximum passenger train speed is 15 mph, and these cabooses will be used on this trackage.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0105) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (Volume 65, Number 70; Page 19477) or at http://www.dot.gov/privacy.html.

Issued in Washington, DC, on July 2, 2010.
Robert C. Lauby,
Deputy Associate Administrator for Regulatory and Legislative Operations.

[FR Doc. 2010-16722 Filed 7-8-10; 8:45 am]

BILLING CODE 4910-06-P